NUCLEAR REGULATORY COMMISSION

[Docket No. 70-3098-MLA; ASLBP No. 07-856-02-MLA-BD01]

Shaw Areva Mox Services; Establishment of Atomic Safety and Licensing Board

Pursuant to delegation by the Commission dated December 29, 1972, published in the Federal Register, 37 FR 28,710 (1972), and the Commission's regulations, see 10 CFR 2.104, 2.300, 2.303, 2.309, 2.311, 2.318, and 2.321, notice is hereby given that an Atomic Safety and Licensing Board is being established to preside over the following proceeding:

Shaw Areva Mox Services; Mixed Oxide Fuel Fabrication Facility (License Application for Possession and Use of Byproduct, Source, and Special Nuclear Materials)

This Board is being established in response to a request for hearing that was filed pursuant to a March 7, 2007 Notice of Opportunity for Hearing (72 FR 12,204 (Mar. 15, 2007)), regarding the request of Shaw AREVA MOX Services for a license application for possession and use of byproduct, source, and special nuclear materials for the mixed oxide fuel fabrication facility in Aiken, South Carolina. MOX Services submitted a license application on September 27, 2006, and after an NRC Staff review, it was determined that modifications were required. On November 16, 2006, a revised license application was submitted by MOX Services and was accepted for docketing via a letter dated December 20, 2006. This proceeding concerns the Petition for Intervention and Request for Hearing submitted by (1) Blue Ridge Environmental Defense League (BREDL), (2) Nuclear Watch South (NWS), and (3) Nuclear Information and Resource Service (NIRS), which was docketed on May 15, 2007.

The Board is comprised of the following administrative judges:

Michael C. Farrar, Chair, Atomic Safety and Licensing Board Panel, U.S. Nuclear Regulatory Commission, Washington, DC 20555-0001.

Dr. Nicholas G. Trikouros, Atomic Safety and Licensing Board Panel, U.S. Nuclear Regulatory Commission, Washington, DC 20555-0001.

Dr. William M. Murphy, Atomic Safety and Licensing Board Panel, U.S. Nuclear Regulatory Commission, Washington, DC 20555-0001.

All correspondence, documents, and other materials shall be filed with the administrative judges in accordance with 10 CFR 2.302.

Issued at Rockville, Maryland, this 5th day of June 2007.
E. Roy Hawkens,
Chief Administrative Judge, Atomic Safety and Licensing Board Panel.

[FR Doc. E7-11196 Filed 6-8-07; 8:45 am]

BILLING CODE 7590-01-P